INTERNATIONAL TRADE COMMISSION

[Investigation No. 731-TA-282 (Fifth Review)]

Petroleum Wax Candles From China

Determination

On the basis of the record ¹ developed in the subject five-year review, the United States International Trade Commission (“Commission”) determines, pursuant to the Tariff Act of 1930 (“the Act”), that revocation of the antidumping duty order on petroleum wax candles from China would be likely to lead to continuation or recurrence of material injury to an industry in the United States within a reasonably foreseeable time.²

¹ The record is defined in § 207.2(f) of the Commission's Rules of Practice and Procedure (19 CFR 207.2(f)).

² Vice Chair Randolph J. Stayin not participating.

Background

The Commission instituted this review on April 1, 2021 (86 FR 17203) and determined on July 7, 2021 that it would conduct an expedited review (86 FR 51380, September 15, 2021).

The Commission made this determination pursuant to section 751(c) of the Act (19 U.S.C. 1675(c)). It completed and filed its determination in this review on October 13, 2021. The views of the Commission are contained in USITC Publication 5232 (October 2021), entitled Petroleum Wax Candles from China: Investigation No. 731-TA-282 (Fifth Review).

By order of the Commission.
Issued: October 13, 2021.
Lisa Barton,
Secretary to the Commission.

[FR Doc. 2021-22694 Filed 10-18-21; 8:45 am]

BILLING CODE 7020-02-P